DEPARTMENT OF COMMERCE

Submission for OMB Review; Comment Request

DOC has submitted to the Office of Management and Budget (OMB) for clearance the following proposal for collection of information under the provisions of the Paperwork Reduction Act of 1995, Public Law 104-13 (44 U.S.C. 3506 (c)(2)(A)).

Bureau: International Trade Administration.

Title: Outside Assessment of DOC Compliance Program.

Agency Form Number: ITA-xxxx.

OMB Number: 0625-xxxx.

Type of Request: Regular Submission.

Burden: 110.5 hours.

Number of Respondents: 274.

Avg. Hours Per Response: 2 hours for focus group participants and 15 minutes for survey respondents.

Needs and Uses: In 2003, the Department of Commerce's (DOC's) International Trade Administration (ITA) conducted a bureau-wide Customer Satisfaction Survey covering all ITA program units, related to the citizen-centered objectives of the President's Management Agenda.

The results were used to set a baseline for performance metric reporting and tracking and to better understand the customer base it serves. ITA's Market Access and Compliance (MAC) program survey report identified gaps between a high level of customer awareness yet low customer use of fair trade and market access services. Findings also indicated that a substantial customer base is unaware of the specific services that the DOC Compliance Program offers.

In response to the survey findings, MAC is undertaking an outside customer service analysis to find out in more specific terms and greater detail, what MAC's Trade Compliance Center's (TCC's) customers' expectations are. The purpose of this outside assessment is to obtain customer and potential customer views regarding the DOC Compliance Program to determine:

• If the TCC offers the right set of services to assist U.S. exporters to overcome foreign trade barriers;

• If MAC is aware of exporter needs;

• If the right MAC programs are in place to meet identified needs; and

• If MAC services are properly promoted to maximize efficiency and effectiveness.

An enhanced customer satisfaction program or other service improvements might result from this data collection initiative.

Affected Public: U.S. Exporters and their Business Representatives, categorized as either active customers, prospective customers, or untapped customers.

Frequency: One time.

Respondent's Obligation: Voluntary.

OMB Desk Officer: David Rostker, (202) 395-7340.

Copies of the above information collection proposal can be obtained by calling or writing Diana Hynek, Departmental Paperwork Clearance Officer, (202) 482-0266, Department of Commerce, Room 6612, 14th and Constitution, NW., Washington, DC 20230. E-mail: dHynek@doc.gov.

Written comments and recommendations for the proposed information collection should be sent via e-mail to David Rostker, OMB Desk Officer, David_Rostker@omb.eop.gov or fax (202) 395-7285, within 30 days of publication of this Federal Register notice.

Dated: July 15, 2005.
Madeleine Clayton,
Management Analyst, Office of the Chief Information Officer.

[FR Doc. 05-14324 Filed 7-20-05; 8:45 am]

BILLING CODE 3510-DA-P